DEPARTMENT OF HEALTH AND HUMAN SERVICES

National Institutes of Health

Office of Biotechnology Activities, Office of Science Policy, Office of the Director; Notice of Meeting

Pursuant to section 10(a) of the Federal Advisory Committee Act, as amended (5 U.S.C. Appendix 2), notice is hereby given of a public teleconference of the National Science Advisory Board for Biosecurity (NSABB).

Under authority 42 U.S.C. 217a, section 222 of the Public Health Service Act, as amended, the Department of Health and Human Services established NSABB to provide advice, guidance and leadership regarding Federal oversight of dual use research, defined as biological research with legitimate scientific purposes that could be misused to pose a biological threat to public health and/or national security.

A publicly accessible teleconference line will be available for the meeting.

Name of Committee: National Science Advisory Board for Biosecurity.

Date: May 27, 2009.

Open: 1 p.m. to 2:30 p.m.

Agenda: Presentations and discussions regarding revisions to the draft NSABB report on Enhancing Personnel Reliability among Individuals with Access to Select Agents and Toxins.

Place: National Institutes of Health, Office of Biotechnology Activities, Suite 750, Bethesda, Maryland 20892. (Telephone Conference Call).

Call-in Information: Toll-Free Number: 1-800-988-9458. Participant Passcode: NSABB.

Contact Person: Ronna Hill, NSABB Program Assistant, 6705 Rockledge Drive, Bethesda, Maryland 20892. (301) 496-9838.

The teleconference meeting agenda, revised draft report and other information about the NSABB will be available at http://www.biosecurityboard.gov Please check this Web site for updates.

The teleconference will include opportunity for public comment. In addition, any interested person may file written comments with the committee. All written comments must be received by May 26, 2009 and should be sent via e-mail to nsabb@od.nih.gov with “NSABB Public Comment” as the subject line or by regular mail to 6705 Rockledge Drive, Suite 750, Bethesda, MD 20892, Attention: Ronna Hill. The statement should include the name, address, telephone number and, when applicable, the business or professional affiliation of the interested person.

This notice is being published less than 15 days prior to the meeting due to time restraints placed on Committee deliberations.

Dated: May 18, 2009.
Jennifer Spaeth,
Office of Federal Advisory Committee Policy.

[FR Doc. E9-12275 Filed 5-26-09; 8:45 am]

BILLING CODE 4140-01-P